DEPARTMENT OF HEALTH AND HUMAN SERVICES

Food and Drug Administration

[Docket No. 2003N-0191]

Agency Emergency Processing Under OMB Review; Submission of Validation Data for Reprocessed Single-Use Devices; Correction

AGENCY: Food and Drug Administration; HHS.

ACTION: Notice; correction.

SUMMARY: The Food and Drug Administration (FDA) is correcting a notice that appeared in the Federal Register of July 23, 2003 (68 FR 43534). The document corrected a notice that appeared in the Federal Register of July 8, 2003 (68 FR 40676), that announced that a proposed collection of information had been submitted to the Office of Management and Budget for emergency processing under the Paperwork Reduction Act of 1995. The July 23, 2003, document published with an incorrect docket number. This document corrects that error.

FOR FURTHER INFORMATION CONTACT: Joyce Strong, Office of Policy and Planning (HF-27), Food and Drug Administration, 5600 Fishers Lane, Rockville, MD 20857, 301-827-7010.

SUPPLEMENTARY INFORMATION: In FR Doc. 03-18692, appearing on page 43534 in the Federal Register of July 23, 2003, the following correction is made:

1. On page 43534, in the first column, in the fourth line, “[Docket No. 2003N-0069]” is corrected to read “[Docket No. 2003N-0191]”.

Dated: August 13, 2003.
William K. Hubbard,
Associate Commissioner for Policy and Planning.

[FR Doc. 03-21227 Filed 8-19-03; 8:45 am]

BILLING CODE 4160-01-S